DEPARTMENT OF COMMERCE

International Trade Administration

[A-588-810]

Continuation of Antidumping Duty Order: Mechanical Transfer Presses From Japan

AGENCY: Import Administration, International Trade Administration, Department of Commerce.

ACTION: Notice of Continuation of Antidumping Duty Order: Mechanical Transfer Presses from Japan.

SUMMARY: On May 3, 2000, the Department of Commerce (“the Department”), pursuant to sections 751(c) and 752 of the Tariff Act of 1930, as amended (“the Act”), determined that revocation of the antidumping duty order on mechanical transfer presses from Japan is likely to lead to continuation or recurrence of dumping (65 FR 25705). On June 7, 2000, the International Trade Commission (“the Commission”), pursuant to section 751(c) of the Act, determined that revocation of the antidumping duty order on mechanical transfer presses from Japan would be likely to lead to continuation or recurrence of material injury to an industry in the United States within a reasonably foreseeable time (65 FR 36164). Therefore, pursuant to 19 CFR 351.218(f)(4), the Department is publishing notice of the continuation of the antidumping duty order on mechanical transfer presses from Japan.

EFFECTIVE DATE: June 21, 2000.

FOR FURTHER INFORMATION CONTACT: Martha V. Douthit or James P. Maeder, Office of Policy for Import Administration, International Trade Administration, U.S. Department of Commerce, 14th Street and Constitution Ave., NW., Washington, D.C. 20230; telephone: (202) 482-5050 or (202) 482-3330, respectively.

SUPPLEMENTARY INFORMATION:

Background

On June 1, 1999, the Department initiated, and the Commission instituted, a sunset review of the antidumping duty order on mechanical transfer presses from Japan, pursuant to section 751(c) of the Act. As a result of its review, the Department found that revocation of the antidumping duty order would likely lead to continuation or recurrence of dumping and notified the Commission of the magnitude of the margin likely to prevail were the order to be revoked (see Final Results of Full Sunset Review: Mechanical Transfer Presses from Japan; 65 FR 25705 (May 3, 2000)).

On June 7, 2000, the Commission determined, pursuant to section 751(c) of the Act, that revocation of the antidumping duty order on mechanical transfer presses from Japan would be likely to lead to continuation or recurrence of material injury to an industry in the United States within a reasonably foreseeable time (see Mechanical Transfer Presses from Japan (June 7, 2000) and USITC Publication 3304, Investigation No. 731-TA-429 (Review) (May 2000)).

Scope

The merchandise covered by this order is mechanical transfer presses from Japan. The term “mechanical transfer press” refers to automatic metal-forming machine tools with multiple die stations in which the workpiece is moved from station to station by a transfer mechanism designed as an integral part of the press and synchronized with the press action, whether imported as machines or parts suitable for use solely or principally with these machines. These presses may be assembled or unassembled.

The Department published in the Federal Register several Notices of Scope Rulings with respect to MTPs from Japan and determined that, (1) spare and replacement parts are outside the scope of the order (see Notice of Scope Rulings, 57 FR 19602 (May 7, 1992)), (2) a destack sheet feeder designed to be used with a mechanical transfer press is an accessory and, therefore, is not within the scope of the order (see Notice of Scope Rulings, 57 FR 32973 (July 24, 1992)), (3) the FMX cold forging press is within the scope of the order (see Notice of Scope Rulings, 59 FR 8910 (February 24, 1994)), and (5) certain mechanical transfer press parts exported from Japan are outside the scope of the order (see Notice of Scope Rulings, 62 FR 9176 (February 28, 1997)).

This merchandise is currently classifiable under Harmonized Tariff Schedule of the United States (“HTSUS”) item numbers 8462.99.0035 and 8466.94.5040. Although the HTSUS subheadings are provided for convenience and customs purposes, the written description remains dispositive.

Determination

As a result of the determinations by the Department and the Commission that revocation of the antidumping duty order on mechanical transfer presses from Japan would be likely to lead to continuation or recurrence of dumping and material injury to an industry in the United States, pursuant to section 751(d)(2) of the Act, the Department hereby orders the continuation of the antidumping duty order on mechanical transfer presses from Japan. The Department will instruct the Customs Service to continue to collect antidumping duty deposits at the rates in effect at the time of entry for all imports of subject merchandise. The effective date of continuation of this order will be the date of publication in the Federal Register of this Notice of Continuation. Pursuant to section 751(c)(2) and 751(c)(6)(A) of the Act, the Department intends to initiate the next five-year review of this order not later than May 2005.

Dated: June 14, 2000.
Troy H. Cribb,
Acting Assistant Secretary for Import Administration.

[FR Doc. 00-15675 Filed 6-20-00; 8:45 am]

BILLING CODE 3510-DS-P